DEPARTMENT OF TRANSPORTATION

Pipeline and Hazardous Materials Safety Administration

[Docket No. PHMSA-2006-23387; Notice 1]

Pipeline Safety: Request for Waiver; Alliance Pipeline L.P.

AGENCY: Pipeline and Hazardous Materials Safety Administration (PHMSA); DOT.

ACTION: Notice of intent to consider waiver request.

SUMMARY: Alliance Pipeline L.P. (APL) requested a waiver of compliance for the U.S. portion of its pipeline system in Class 1 and Class 2 locations to operate its pipeline at stress levels up to 80 percent of the pipeline's specified minimum yield strength (SMYS), and increase the design factor for its compressor station piping. APL also requested relief from the hydrostatic testing requirements for its compressor station piping and pressure relieving and limiting station equipment requirements.

DATES: Persons interested in submitting comments regarding this waiver request must do so by April 21, 2006.

ADDRESSES: Comments should reference Docket No. PHMSA-2006-23387 and may be submitted in the following ways:

• DOT Web site: http://dms.dot.gov. To submit comments on the DOT electronic docket site, click “Comment/Submissions,” click “Continue,” fill in the requested information, click “Continue,” enter your comment, then click “Submit.”

• Fax: 202-493-2251.

• Mail: Docket Management System: U.S. Department of Transportation, 400 Seventh Street, SW., Nassif Building, Room PL-401, Washington, DC 20590-0001.

• Hand Delivery: DOT Docket Management System; Room PL-401 on the plaza level of the Nassif Building, 400 Seventh Street, SW., Washington, DC between 9 a.m. and 5 p.m., Monday through Friday, except Federal holidays.

• E-Gov Web site: http://www.Regulations.gov. This site allows the public to enter comments on any Federal Register notice issued by any agency.

Instructions: You should identify the docket number, PHMSA-2006-23387, at the beginning of your comments. If you submit your comments by mail, you should submit two copies. If you wish to receive confirmation that PHMSA received your comments, you should include a self-addressed stamped postcard. Internet users may submit comments at http://www.regulations.gov, and may access all comments received by DOT at http://dms.dot.gov by performing a simple search for the docket number.

Note: All comments will be posted without changes or edits to http://dms.dot.gov including any personal information provided.

Privacy Act Statement: Anyone may search the electronic form of all comments received for any of our dockets. You may review DOT's complete Privacy Act Statement in the Federal Register published on April 11, 2000 (65 FR 19477) or you may visit http://dms.dot.gov.

FOR FURTHER INFORMATION CONTACT: James Reynolds by telephone at 202-366-2786; by fax at 202-366-4566; by mail at DOT, Pipeline and Hazardous Materials Safety Administration (PHMSA), Pipeline Safety Program (PHP), 400 7th Street, SW., Room 2103, Washington, DC 20590, or by e-mail at james.reynolds@dot.gov.

SUPPLEMENTARY INFORMATION:

Background

Alliance Pipeline L.P. requests a waiver from the pipeline regulations to operate the U.S. portion of its pipeline in Class 1 and Class 2 locations—upstream of the Aux Sable Delivery Meter Station (mile post 0.0) to its interconnection with the Canadian portion of the APL system at the Canadian/United States border near Minot, North Dakota (mile post 874)—at stress levels up to 80 percent of the pipeline's SMYS. APL is also requesting a waiver to increase the design factor for its compressor station piping as well as relief from the hydrostatic testing requirements for its compressor station piping. Specifically, APL requests a waiver of compliance from the following regulatory requirements:

• 49 CFR 192.111—Design factor (F) for steel pipe;

• 49 CFR 192.201—Required capacity of pressure relieving and limiting stations;

• 49 CFR 192.505—Strength test requirements for steel pipelines to operate at a hoop stress of 30 percent or more of SMYS; and

• 49 CFR 192.619—Maximum allowable operating pressure: Steel or plastic pipelines.

The U.S. portion of APL's pipeline system transports natural gas from the Canadian/United States border near Minot, North Dakota to the Aux Sable Delivery Meter Station near Chicago, Illinois. The U.S. pipeline system was commissioned in 2000 and is comprised of 888-miles of 36-inch diameter X70 pipes, with varying wall thicknesses, and 7 compressor stations. The pipeline was constructed using fusion bonded epoxy (FBE) coating, heavy-wall pipe, and was mechanically welded. The pipeline was in-line inspected using a high resolution magnetic flux leakage tool, and all girth welds were inspected.

Pipeline System Analysis

APL conducted evaluations of the U.S. portion of its pipeline to confirm whether the system could safely and reliably operate at increased stress levels. As part of its evaluation, APL established a feasibility criterion to assess the safety and reliability of the pipeline to operate at stress levels up to 80 percent of the pipeline's SMYS. The feasibility criterion includes, but is not limited to:

• Developing operational commitments that would improve safety for any person residing, working, or recreating near the U.S. portion of its pipeline, including approximately 15 miles of pipeline located in high consequence areas.

• Conducting in-depth assessments of its existing pipeline equipment to ensure the equipment is capable of sustaining operations at increased pressures. In addition, APL plans to modify its existing pipeline to enhance the safety and reliability of the pipeline to operate at stress levels up to 80 percent of the pipe's SMYS.

APL also performed technical reviews of its pipeline and compared the threats imposed on a pipeline operating at 72 percent SMYS to those imposed on a pipeline operating at 80 percent SMYS. The following nine threats were analyzed: (1) Excavation damage; (2) external corrosion; (3) internal corrosion; (4) stress corrosion cracking; (5) pipe manufacturing; (6) construction; (7) equipment; (8) weather/outside factors; and (9) incorrect operation.

To combat increased threats to its pipeline, APL implemented preventive measures as part of its Integrity Management Program (IMP) to mitigate the threat imposed by excavation damage. APL also developed an External Corrosion Mitigation Plan to address the threat of external corrosion, and APL will rely on the integrity reassessment intervals of IMP to mitigate the threat of internal corrosion. To manage the threat of stress corrosion cracking, APL will implement magnetic particle examinations at any location(s) along its pipeline where damage to its FBE coating is detected. Based on APL's technical review of its pipeline, and its actions to prevent and mitigate potential threats to the pipeline, APL believes that its pipeline can be safely and reliably operated at stress levels up to 80 percent of the pipeline's SMYS, with no increased threats to the pipeline.

APL also requests relief from regulations which require that compressor station piping be subjected to Class 3 testing requirements, and seeks to increase the design factor from 50 percent SMYS to 54 percent SMYS. Additionally APL asks to be allowed to use ASME B31.8 requirements to test compressor stating piping to 1.4 times the maximum allowable operating pressure (MAOP) in lieu of § 192.505 requirements that require compressor station piping be tested to 1.5 times the pipe's MAOP.

APL noted that since ASME B31.8, which served as the early standard for the design, construction, and operation of natural gas transmission pipelines, PHMSA has improved its pipeline safety regulations to include an integrity management program and a focus on high consequence areas. APL also embraces PHMSA's commitment to improving pipeline safety, and believes its proposal will achieve a greater degree of safety than that currently provided by the regulations.

PHMSA will consider APL's waiver request and whether its proposal will yield an equivalent or greater degree of safety than that provided by the current regulations. After considering any comments received, PHMSA may grant APL's waiver request as proposed, with modifications and conditions, or deny APL's request. If the waiver is granted and PHMSA subsequently determines the effect of the waiver is inconsistent with pipeline safety, PHMSA may revoke the waiver at its sole discretion.

Authority: 49 U.S.C. 60118(c) and 49 CFR 1.53.

Issued in Washington, DC, on March 20, 2006.
Joy Kadnar,
Director of Engineering and Emergency Support.

[FR Doc. 06-2830 Filed 3-21-06; 8:45 am]

BILLING CODE 4910-60-P